DEPARTMENT OF ENERGY

Federal Energy Regulatory Commission

[Docket No. RP-00-426-002]

Texas Gas Transmission Corporation; Notice of Compliance Filing

April 12, 2001.

Take notice that on April 6, 2001, Texas Gas Transmission Corporation (Texas Gas) tendered for filing copies of the executed service agreements that contain a negotiated rate under Rate Schedule SNS applicable to the agreements between Texas Gas and Worthington Generation, L.L.C.

Texas Gas states that the purpose of the instant filing is to comply with filing requirements specified in the orders granting Texas Gas's negotiated rate authority and the Commission's Policy Statement. The effective date of these negotiated rate transactions is April 1, 2001. The enclosed service agreement between Texas Gas and Worthington relate to the negotiated rate transactions under Rate Schedule SNS applicable to the transportation of gas for Worthington. In compliance with the Commission's orders and Section 38.5 of Texas Gas's General Terms and Conditions (GT&C), the negotiated rate agreement is being filed with the Commission.

Texas Gas states that the agreement discloses the Customer name, the negotiated volumetric rate, the applicable receipt and delivery points, the quantity of gas to be transported, the applicable Rate Schedule for service, and the contract term. In compliance with the Commission's orders and Texas Gas's, the enclosed service agreements disclose the name of the customer, the actual negotiated rate and term, the receipt and delivery points, the quantity of gas to be transported and the applicable rate schedule for the service.

Texas Gas states that copies of the filing are being mailed to Texas Gas's jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before April 19, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9555 Filed 4-17-01; 8:45 am]

BILLING CODE 6717-01-M